DEPARTMENT OF DEFENSE

Department of the Navy

[Docket ID: USN-2022-HQ-0024]

Submission for OMB Review; Comment Request

AGENCY: Department of the Navy, Department of Defense (DoD).

ACTION: 30-Day information collection notice.

SUMMARY: The DoD has submitted to the Office of Management and Budget (OMB) for clearance the following proposal for collection of information under the provisions of the Paperwork Reduction Act.

DATES: Consideration will be given to all comments received by July 3, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Naval Air Systems Command Candidate Form; OMB Control Number 0703-YELL.

Type of Request: Existing collection currently in use without an OMB Control Number.

Number of Respondents: 7,256.

Responses per Respondent: 1.

Annual Responses: 7,256.

Average Burden per Response: 5 minutes.

Annual Burden Hours: 605.

Needs and Uses: In order to properly evaluate candidates' qualifications for employment, Naval Air Systems Command (NAVAIR) must collect the information necessary to rate applicants for Federal jobs in accordance with Title 5 of the United States Code sections 1104, 1302, 3301, 3304, 3320, 3361, 3393, and 3394. Per 5 U.S.C. 1104, the Director of the Office of Personnel Management may delegate authority for competitive examinations to the heads of agencies in the executive branch and other agencies employing persons in the competitive service. In an effort to improve the effectiveness and efficiency of NAVAIR recruitment efforts, per direction of NAVAIR's Executive Director, the Command researched best business practices and associated Commercial off the Shelf (COTS) products that would address the functional and technical requirements to support candidate tracking. Due to unprecedented hiring demand in 2017 and 2018 and the direction by the Principal Director to the Deputy Assistant Secretary of Defense, Civilian Personnel Policy, NAVAIR moved forward with a pilot of a SaaS IT System product named Yello to meet mission demands. The application enables Recruiters to collaborate to attract and engage top talent while providing vital command recruiting metrics that provide meaningful insights, leading to more informed decisions and more strategic recruitment initiatives and outcomes. Additionally, it improves the ability to control access to candidate data and allows NAVAIR the ability to view, clean, analyze, and aggregate data as necessary to perform return on investment (ROI) data analysis of recruiting efforts. The web-based candidate information form provides a digital mechanism to capture candidates' information in real time at recruitment events, via marketing and sourcing campaigns. The web form is hosted on the Yello Pro app and captures basic candidate information, as well as educational and experience details, allowing recruiters to review, assess, and select for interviews and contingent offers. Using the web form, NAVAIR can actively or passively look for candidates that align with hiring requirements providing full transparency and access to hiring manager's enterprise wide.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: May 24, 2023.
Aaron T. Siegel,
Alternate OSD Federal Register Liaison Officer, Department of Defense.

[FR Doc. 2023-11572 Filed 5-31-23; 8:45 am]

BILLING CODE 5001-06-P